NATIONAL TRANSPORTATION SAFETY BOARD

Sunshine Act Meeting

AGENCY HOLDING THE MEETING: National Transportation Safety Board.

TIME AND DATE: 9:30 a.m., Wednesday, May 3, 2000.

PLACE: NTSB Board Room, 429 L'Enfant Plaza, SW, Washington, DC 20594.

STATUS: Open to the public.

MATTERS TO BE CONSIDERED:

5299F “Most Wanted” Safety Recommendation Program Status Report and Suggested Modifications.

7256 Special Investigation Report: Actions to Reduce Fatalities, Injuries, and Crashes Involving the Hard Core Drinking Driver.

NEWS MEDIA CONTRACT: Telephone: (202) 314-6100.

Individuals requesting specific accommodation should contact Mrs. Barbara Bush at (202) 314-6220 by Friday April 28, 2000.

CONTRACT PERSON FOR MORE INFORMATION: Rhonda Underwood (202) 314-6065.

April 21, 2000.
Rhonda Underwood,
Federal Register Liaison Officer.

[FR Doc. 00-10441 Filed 4-21-00; 3:38 pm]

BILLING CODE 7533-01-M